DEPARTMENT OF HOMELAND SECURITY

U.S. Immigration and Customs Enforcement

[OMB Control Number 1653-0045]

Agency Information Collection Activities; Extension, Without Change, of a Currently Approved Collection: Affidavit in Lieu of Lost Receipt of United States ICE for Collateral Accepted as Security

AGENCY: U.S. Immigration and Customs Enforcement, Department of Homeland Security.

ACTION: 60-Day notice.

SUMMARY: The Department of Homeland Security (DHS), U.S. Immigration and Customs Enforcement (ICE) invites the general public and other Federal agencies to comment on this proposed extension of a currently approved collection of information. In accordance with the Paperwork Reduction Act (PRA) of 1995, this information collection notice is published in the Federal Register to obtain comments regarding the nature of the information collection, the categories of respondents, the estimated burden (i.e., the time, effort, and resources used by the respondents to respond), the estimated cost to the respondent, and the actual information collection instruments.

DATES: Comments are encouraged and will be accepted until September 23, 2022.

ADDRESSES: All submissions received must include the OMB Control Number 1653-0045 in the body of the correspondence, the agency name and Docket ID ICEB-2009-0002. All comments received will be posted without change to http://www.regulations.gov, including any personal information provided.

(1) Online. Submit comments via the Federal eRulemaking Portal website at http://www.regulations.gov under e-Docket ID number ICEB-2009-0002.

FOR FURTHER INFORMATION CONTACT: If you have questions related to this collection please contact: Carl Albritton, ERO Bond Management Unit, (202) 732-5918, carl.a.albritton@ice.dhs.gov.

SUPPLEMENTARY INFORMATION:

Comment

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a Currently Approved Collection.

(2) Title of the Form/Collection: Affidavit in Lieu of Lost Receipt of United States ICE for Collateral Accepted as Security.

(3) Agency form number, if any, and the applicable component of the Department of Homeland Security sponsoring the collection: I-395; U.S. Immigration and Customs Enforcement.

(4) Affected public who will be asked or required to respond, as well as a brief abstract: Primary: Individual or Households, Business or other non-profit. When an obligor loses the original Receipt of Immigration Officer-United States Bonds, Notes, or Cash, Accepted as Security on an Immigration Bond, or I-305, the obligor must submit form I-395 to claim the principal and earned interest due for cancelled or mitigated bonds.

(5) An estimate of the total number of respondents and the amount of time estimated for an average respondent to respond: 100 responses at 30 minutes (.50 hours) per response.

(6) An estimate of the total public burden (in hours) associated with the collection: 50 annual burden hours.

Dated: July 20, 2022.
Scott Elmore,
PRA Clearance Officer.

[FR Doc. 2022-15830 Filed 7-22-22; 8:45 am]

BILLING CODE 9111-28-P